DEPARTMENT OF LABOR

Employment and Training Administration

[TA-W-59,655]

Boeing Company; Long Beach Division; Long Beach, CA; Notice of Termination of Investigation

Pursuant to section 221 of the Trade Act of 1974, as amended, an investigation was initiated on June 30, 2006 in response to a petition filed by an International Union, United Automobile, Aerospace and Agricultural Implement Workers of America Representative on behalf of workers at Boeing Company, Long Beach Division, Long Beach, California.

The petitioner has requested that the petition be withdrawn. Consequently, the investigation has been terminated.

Signed at Washington, DC, this 10th day of August, 2006.
Elliott S. Kushner,
Certifying Officer, Division of Trade Adjustment Assistance.

[FR Doc. E6-14154 Filed 8-24-06; 8:45 am]

BILLING CODE 4510-30-P